DEPARTMENT OF HOMELAND SECURITY

Federal Emergency Management Agency

[Docket ID: FEMA-2023-0024]

Simplifying FEMA Preparedness Grants

AGENCY: Federal Emergency Management Agency, Department of Homeland Security.

ACTION: Notice and request for information.

SUMMARY: The Federal Emergency Management Agency (FEMA) aims to improve the management and administration of its preparedness grant programs to continue to assist the nation in building and sustaining capabilities to prevent, prepare for, protect against, and respond to terrorist attacks and other hazards. FEMA is issuing this Notice and Request for Information (RFI) to seek public input on simplifying and streamlining its preparedness grant process to improve the efficiency and accessibility of its suite of preparedness grant programs.

DATES: Comments must be received no later than November 7, 2023.

ADDRESSES: Interested persons may submit comments responsive to this RFI electronically through the Federal eRulemaking Portal at https://www.regulations.gov. Follow the instructions for submitting comments and use Docket ID: FEMA-2023-0024. Submitting this information makes it public; you may wish to read the Privacy and Security Notice on https://www.regulations.gov.

Commenters are encouraged to identify the specific question or questions by number to which they are responding. All submissions received must include the agency name and Docket ID, and will be posted, without change, to the Federal eRulemaking Portal at https://www.regulations.gov and will include any personal information you provide. Comments submitted can be viewed by other commenters and interested members of the public. Responses should not include any personally identifiable information or confidential commercial information.

FOR FURTHER INFORMATION CONTACT: Pamela Williams, Assistant Administrator, Grant Programs Directorate, Resilience, Federal Emergency Management Agency, Fema-Grants-Feedback@fema.dhs.gov or 202-212-8007.

SUPPLEMENTARY INFORMATION:

I. Background

On Jan. 25, 2023, the U.S. Department of Homeland Security (DHS) released the Secretary's 2023 department-wide priorities. FEMA seeks this input as part of the DHS 2023 priority to improve management and administration of grant programs by simplifying application processes and improving customer service, while ensuring greater accessibility and equity for under resourced populations. For decades, FEMA has provided federal assistance to aid states in building and sustaining capabilities to measurably improve the nation's readiness in preventing, preparing for, protecting against, and responding to terrorist attacks and other hazards. The federal grants process is a critical tool for providing funding to a wide range of recipients, including state, local, tribal Nations, and territorial governments, and nonprofits. However, the process is often seen as complex and burdensome, which can discourage some stakeholders from applying for grants and limit program effectiveness.

The 2022-2026 FEMA Strategic Plan ¹ outlines the agency's approach to transform how the agency delivers support and enables partners to increase their capacity. FEMA must routinely evaluate its programs and policies for outcome disparities; in keeping with the 2022-2026 FEMA Strategic Plan.

¹ https://www.fema.gov/sites/default/files/documents/fema_2022-2026-strategic-plan.pdf (Last accessed 6/2/2023).

II. Maximizing the Value of Public Feedback

The impacts of federal regulations and policies tend to be widely dispersed in society, making members of the public one of the best sources of useful information, data and perspectives on the benefits and burdens of FEMA's existing programs, regulations, information collections and policies. FEMA seeks public feedback relevant to its grant preparedness programs to facilitate FEMA's review and simplification of its preparedness grant processes.

The following is meant to assist members of the public in formulating comments. This notice contains a list of questions, the answers to which will assist FEMA in reviewing, modifying and simplifying our preparedness grant processes and improving engagement with stakeholders. FEMA encourages public comment and seeks additional data commenters believe relevant to agency efforts to improve service delivery. FEMA finds the most effective feedback on agency process identifies specific programmatic information and policies for improvement; identifies specific barriers to participation and/or accessibility; offers actionable data; and specifies viable alternatives to existing approaches that meet statutory obligations.

For example, commentary stating that a stakeholder feels strongly that FEMA should change the preparedness grant application process, without providing specific information on how the proposed change would impact the cost, time and efforts of recipients, is less helpful to FEMA than specific actionable feedback that provides details on how to address identified challenges. FEMA is looking for new and/or specific information, data and perspectives to support any proposed changes. Commenters should consider these principles as they answer and respond to the questions in this notice:

• Specifically identify any administrative burdens, program requirements, information collection burdens, waiting time, or unnecessary complexity in FEMA's grant processes.

• Identify meaningful and helpful engagements that have been, or should be provided to enhance the knowledge and accessibility of FEMA's preparedness grant programs.

• Provide specific data that document the costs, burdens and benefits of existing requirements to the extent they are available. Commenters might also address how FEMA can best obtain and consider accurate, objective information and data about the costs, burdens, and benefits of existing programs, and whether there are existing sources of data that FEMA can use to evaluate its programs on a revolving basis.

• Where comments relate to a program's costs or benefits, consider providing data or other information about the program to ascertain the program's actual impact.

FEMA will also conduct several listening sessions for public commentary during the open comment period. Information will be posted on https://www.fema.gov/event/public-comment-period-simplifying-fema-preparedness-grants.

III. FEMA's Preparedness Programs

In Fiscal Year 2023, preparedness grant programs will provide more than two billion dollars in funding to state, local, tribal Nations, and territorial governments, as well as transportation authorities, nonprofit organizations, and other eligible entities as outlined in the funding notice for each program. FEMA preparedness grant programs include:

1. Assistance to Firefighters Grants (AFG);

2. Emergency Management Performance Grant Program (EMPG);

3. Fire Prevention & Safety (FP&S);

4. Homeland Security Grant Program (HSGP);

a. State Homeland Security Program (SHSP);

b. Urban Area Security Initiative (UASI);

c. Operation Stonegarden (OPSG);

5. Intercity Bus Security Grant Program (IBSGP);

6. Intercity Passenger Rail Grant Program (IPR);

7. Nonprofit Security Grant Program (NSGP);

8. Staffing for Adequate Fire and Emergency Response (SAFER);

9. Port Security Grant Program (PSGP);

10. Regional Catastrophic Preparedness Grants Program (RCPGP);

11. State and Local Cybersecurity Grant Program (SLCGP);

12. Tribal Cybersecurity Grant Program (TCGP);

13. Transit Security Grant Program (TSGP); and

14. Tribal Homeland Security Grant Program (THSGP).

FEMA seeks specific input from the public regarding the outlined preparedness grant programs, collection of information, and policies. In response, FEMA will work to simplify and streamline its grant processes to improve efficiencies and accessibility. For additional information on the programs above, please visit https://www.fema.gov/grants/preparedness/about.

IV. Specific Information Requested

FEMA has divided this request for information into three sections: (1) a series of general questions which may be answered as applicable to any of FEMA's preparedness grant programs, (2) specific questions that solicit more targeted feedback on individual preparedness grant programs, and (3) follow up questions from the Request for Information concerning equity and climate change that FEMA released in 2021.²

² See Request for Information on FEMA Programs, Regulations, and Policies https://www.federalregister.gov/documents/2021/04/22/2021-08444/request-for-information-on-fema-programs-regulations-and-policies (Last accessed 6/7/2023).

A. General Inquiry

1. How would you describe the cadence of FEMA preparedness grant programs communication to your stakeholder group?

How often is too often, and how infrequently is too infrequently?

Do you feel that all information required to apply for a grant is discussed?

Is there anything missing from FEMA's communication on grants that would be helpful to have?

2. What other methods and modes of engagement (e.g., listening sessions, online surveys, written inputs) would you like to participate in? Does this include regional and/or national engagements hosted by FEMA? If so, which ones?

3. If you are responsible for managing grant programs from across the federal government:

Do you believe there are opportunities for FEMA to better complement and coordinate with other federal grant programs? If so, what would you recommend?

Are there any specific compliance elements with FEMA grants that are more or less burdensome than other federal grants? If so, can you provide specific examples?

4. What are your biggest challenges during the application periods? Consider the following:

Timeframe, including the length of the application period, how many applications are due at the same time, the time of the year the application period opens, etc.;

Technology including the grant application systems (ND Grants, FEMA GO, and Grants Reporting Tool);

Completing the Biannual Strategy Implementation Report (BSIR);

Forms;

Knowledge of the program requirements and priorities;

Internal approvals; or

Other (please describe).

5. Compliance vs. Complexity: For the following topics, although FEMA must ensure compliance with certain grant requirements, we would like to simplify how these requirements are met and seek your feedback on how FEMA can make these requirements easier, while still achieving compliance. Potential topics for feedback include:

Reporting requirements, fraud awareness, and fraud prevention;

Record keeping/questioned costs;

Environmental and historic preservation;

Other Grant Requirements (Civil Rights, Drug Free Workplace, etc.);

Audits from the DHS Office of Inspector General (OIG) or the Government Accountability Office, (GAO) and FEMA monitoring

Procurement rules (e.g., the Build American Buy American Act (BABAA))

6. FEMA seeks your feedback on your experiences with monitoring of FEMA preparedness grant programs, including:

If you have received monitoring from FEMA, from whom did you receive it (Region or Headquarters)? Was it financial or programmatic monitoring or both?

How would you describe the response time of the feedback you received? What did you need to do to prepare for the visit?

Was the feedback helpful? How was your experience trying to close any corrective actions?

7. Measuring for Results:

How do you quantify goods and services purchased with grant funds?

How do you collect information at the project level to determine its impact on your preparedness capabilities?

How can FEMA assist in simplifying that process?

8. What else can FEMA do to help balance the needs of emergency management, with other state and urban area grant recipient stakeholders such as fire and emergency medical services, public health officials, and law enforcement?

9. Which FEMA preparedness tools or products inform your grant investments decisions?

10. Have you identified areas for improvement in the grant process for which FEMA technical assistance or joint technical assistance with other jurisdictions could be helpful? If so, what are they?

11. How can FEMA better consolidate grant training and technical assistance to support a unified presentation of all its offerings to recipients and sub-recipients?

12. Are there data reporting elements that your organization captures, that you believe would be valuable to share with FEMA and would help FEMA articulate how the nation is better prepared and more resilient? If so, what are they?

13. How does your organization capture data on underserved communities serviced with preparedness grant resources?

B. Programmatic Questions

(1) Competitive Grant Programs

1. Regarding FEMA's competitive preparedness grant programs (AFG, FP&S, SAFER, IBSGP, NSGP, OPSG, PSGP, RCPGP, TSGP, THSGP):

a. Are there measures that FEMA could take to increase the number of entities that are aware of and apply for our grant programs? What are the specific barriers to submitting grant applications?

2. State Administrative Agencies: For the Emergency Management Performance Grant and Homeland Security Grant Program, what measures are being taken at the state level to promote equitable sub-awarding of federal grant funds? How can FEMA support these measures to make them simpler and more effective?

3. Grant subapplicants and subrecipients: What are your biggest challenges during the application process, including FEMA specific guidance and timelines and the applicant (State) specific guidance and timelines?

(2) Homeland Security Grant Program (HSGP)

4. FEMA and DHS have committed to having this year's six National Priority Areas (NPAs) remain consistent next year. How has this impacted your planning process? As a reminder, the six NPAs are:

a. Enhancing the protection of soft targets and crowded places;

b. Enhancing information sharing and intelligence analysis;

c. Combating domestic violence extremism;

d. Enhancing cybersecurity;

e. Enhancing community preparedness and resilience; and

f. Enhancing election security.

5. In what ways do the six NPAs accurately or inadequately represent the landscape of priorities that are needed to further strengthen homeland security?

6. Five of six NPAs provide minimum spend percentages required for both the State and Urban Area portfolios. The minimum spend requirements equated to 15% of the total award funds, and FEMA further required that an additional 15% be spent across any of the six NPAs for both the State and Urban Area portfolios.

a. Do you believe this approach provides adequate resourcing and investments into these priority areas?

7. Do you have any further recommendations for setting NPAs?

8. How can FEMA help state, local, tribal, and territorial partners better understand or clarify the risk methodology that informs allocations for the Homeland Security Grant Program?

9. In what ways does the risk profile help you understand your jurisdiction's relative risk?

10. How might FEMA improve the risk profile?

11. What data elements should be the most and least influential in the Terrorism Risk Methodology?

12. Are there any national level datasets that FEMA has not included as part of the risk assessment analysis? If so, please identify the relevant datasets.

13. Is there a way for FEMA to provide the public with a better understanding of the HSGP's priorities in advance the Notice of Funding Opportunity (NOFO)?

14. What can FEMA and DHS do to strengthen its grant programs to better build or sustain state and local capabilities to prevent terrorist attacks?

15. What can FEMA and DHS do to ensure that the Homeland Security Grant Programs (HSGP, UASI, OSGP) adequately meet your needs?

16. The HSGP is a resource among a limited pool of funding for the development of new and sustained capabilities. Given the limited funding, how do you prioritize building new capabilities versus sustaining existing capabilities? A complete answer would provide examples.

17. The HSGP contains an element of the State Homeland Security Program (SHSP) that provides the legislative requirement to subaward at least 80% of state funds to local units of government. Do you believe this an adequate measure to help ensure that funds are properly invested for building capabilities? If not, why not?

18. What suggestions do you have for proper alignment and balancing of SHSP funds to build capabilities?

19. What can FEMA and DHS do to help ensure law enforcement needs are met while also balancing the needs of other state and urban area grant recipient stakeholders such as fire and emergency management?

20. The Law Enforcement Terrorism Prevention Activity (LETPA) program imposes a minimum spend requirement on law enforcement terrorism prevention. How can FEMA and DHS refine LETPA requirement to ensure state and local capabilities to prevent terrorist attacks are being supported?

21. What can FEMA and DHS do to ensure campus law enforcement agencies understand how to access the Homeland Security Grant Program funding, to include Urban Area Security Initiative funding?

22. What can FEMA and DHS do to simplify the grant requirements for applicants and recipients to enhance the Operation Stonegarden Grant Program?

(3) Urban Areas Security Initiative Program

The Urban Areas Security Initiative Program is subject to the evolving and expanding threat landscape. Threats faced by the nation have changed dramatically over the last twenty years, becoming more dispersed in nature and often carried out by a single individual or small groups using very simple tactics. As a result, risk is no longer concentrated in the largest urban areas; the risk to smaller urban areas has risen, as well.

23. The Urban Areas Security Initiative Program must address this new threat environment, both in terms of eligible urban areas and risk-based funding allocations. Please provide your input on how this can best be accomplished without undermining the progress made over the past 20 years in building capacity to prevent, protect, and respond to terrorist acts.

(4) Emergency Management Performance Grant (EMPG)

24. Do you find the current EMPG work plan template preferable to the previous narrative format?

25. How much does the 50% cost share/match, which requires that the federal share applied toward the EMPG Program be no more than 50% of the total budget, factor into the State Administrative Agency's ability and approach to pass through EMPG funding to subrecipients?

C. 2021 Request for Information Follow Up Questions

FEMA released an RFI in April 2021 to receive input from the public on specific FEMA programs, regulations, collections of information, and policies for the agency to consider modifying, streamlining, expanding or repealing in light of Executive Order 13985, “Advancing Racial Equity and Support for Underserved Communities Through the Federal Government”, among executive actions. The questions in this Simplifying FEMA Preparedness Grants 2023 RFI expands on the 2021 RFI feedback, and explores opportunities to identify and redress potential inequities in how partners access, apply and receive preparedness grant funds.

The 2021 RFI identified areas for improving the NSGP Investment Justification (IJ) process. As another example, one commentator suggested that communities that meet the small, impoverished community definition could use simpler forms or receive direct assistance from FEMA staff or FEMA-hired contractors to prepare the grant application.

1. What steps can FEMA take to improve the application process for our preparedness suite of grant programs?

2. How can FEMA better engage with underserved communities about national preparedness initiatives and grant programs?

3. Are there entities that are excluded from preparedness grant programs that could meet the priorities of one or more programs and provide a benefit to their community? Please provide the name of the grant program(s), entity type and how they can support a priority of the program(s).

4. How does your organization capture data on underserved communities serviced with preparedness grant resources?

FEMA notes that this notice is issued solely for information and program-planning purposes. Responses to this notice do not bind FEMA to any further actions related to the response.

Deanne Criswell,
Administrator, Federal Emergency Management Agency.

[FR Doc. 2023-19376 Filed 9-7-23; 8:45 am]

BILLING CODE 9111-78-P